INTERNATIONAL TRADE COMMISSION

[Inv. No. 337-TA-548]

In the Matter of Certain Tissue Converting Machinery, Including Rewinders, Tail Sealers, Trim Removers, and Components Thereof; Notice of Commission Decision Not To Review an Initial Determination Granting Adding a Complainant and Amending the Notice of Investigation

AGENCY: U.S. International Trade Commission.

ACTION: Notice.

SUMMARY: Notice is hereby given that the U.S. International Trade Commission has determined not to review an initial determination (“ID”) issued by the presiding administrative law judge (“ALJ”) adding Fabio Perini S.p.A. as a complainant and amending the notice of investigation in the above-captioned investigation accordingly.

FOR FURTHER INFORMATION CONTACT: Jonathan Engler, Esq., Office of the General Counsel, U.S. International Trade Commission, 500 E Street, SW., Washington, DC 20436, telephone (202) 205-3112. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted by the Commission based on a complaint filed by Fabrio Perini North America Inc. (“Perini-NA”) of Green Bay, Wisconsin. 70 FR 46884 (August 11, 2005). The complaint alleged violations of section 337 of the Tariff Act of 1930, 19 U.S.C. 1337, in the importation into the United States, the sale for importation, and the sale within the United States after importation of certain tissue converting machinery, including rewinders, tail sealers, trim removers, and components thereof by reason of infringement of claims 1, 3, 6, 7, 8, 13, 14, and 15 of U.S. Patent No. 5,979,818, claims 1-5 of U.S. Patent No. Re. 35,729, and Claim 5 of U.S. Patent No. 5,475,917. The complaint and notice of investigation named Chan Li Machinery, Co., Ltd. (“Chan Li”) of Taipei Hsien, Taiwan as the respondent.

On January 17, 2006, Chan Li moved to compel Fabio Perini S.p.A. (“Perini-Italy”) to join as a complainant, arguing that it is an indispensable party for purposes of this litigation. On January 23, 2006, Perini-NA represented that Perini-Italy consented to joinder as a complainant. The Commission Investigative Staff indicated that it supported adding Perini-Italy as a complainant. On January 25, 2006, the ALJ issued an ID (Order No. 11) adding Perini-Italy as a complainant and amending the notice of investigation accordingly.

This action is taken under the authority of section 337 of the Tariff Act of 1930, 19 U.S.C. 1337, and Commission Rule 210.42, 19 CFR 210.42.

Issued: February 22, 2006.
By order of the Commission.
Marilyn R. Abbott,
Secretary to the Commission.

[FR Doc. E6-2796 Filed 2-27-06; 8:45 am]

BILLING CODE 7020-02-P